DEPARTMENT OF TRANSPORTATION

Federal Aviation Administration

14 CFR Part 39

[Docket No. FAA-2007-27012; Directorate Identifier 2006-NM-188-AD]

RIN 2120-AA64

Airworthiness Directives; Airbus Model A300 B4-601, A300 B4-603, A300 B4-605R, A300 C4-605R Variant F, A310-204, A310-304, and A310-308 Airplanes Equipped With General Electric CF6-80C2 Engines

AGENCY: Federal Aviation Administration (FAA), Department of Transportation (DOT).

ACTION: Notice of proposed rulemaking (NPRM).

SUMMARY: The FAA proposes to supersede an existing airworthiness directive (AD) that applies to certain Airbus Model A300 B4-600, B4-600R, C4-605R Variant F, and F4-600R (collectively called A300-600) series airplanes; and Model A310 series airplanes. The existing AD currently requires a one-time inspection for damage of the integrated drive generator (IDG) electrical harness and pyramid arm, and repair if necessary. This proposed AD would add new repetitive inspections, which, when initiated, would terminate the inspection required by the existing AD. This proposed AD would also require repairing damage and protecting the harness. The proposed AD would also provide for optional terminating action for the repetitive inspections. This proposed AD also removes certain airplanes from the applicability of the existing AD. This proposed AD results from a report of structural damage on the forward pyramid arm of an engine pylon due to chafing of the IDG electrical harness against the structure of the pyramid arm. We are proposing this AD to prevent electrical arcing in the engine pylon, which could result in loss of the relevant alternating current (AC) bus bar, reduced structural integrity of the engine pylon, and possible loss of control of the airplane.

DATES: We must receive comments on this proposed AD by February 26, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Comments Invited

We invite you to submit any relevant written data, views, or arguments regarding this proposed AD. Send your comments to an address listed in the ADDRESSES section. Include the docket number “Docket No. FAA-2007-27012; Directorate Identifier 2006-NM-188-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On April 16, 2004, we issued AD 2004-09-01, amendment 39-13590 (69 FR 23090, April 28, 2004), for certain Airbus Model A300 B4-600, B4-600R, C4-605R Variant F, and F4-600R (collectively called A300-600) series airplanes; and Model A310 series airplanes. That AD requires a one-time inspection for damage of the integrated drive generator (IDG) electrical harness and pyramid arm, and repair if necessary. That AD resulted from a report of structural damage on the forward pyramid arm of an engine pylon during a scheduled maintenance check. Investigation revealed that the damage was caused by chafing of the IDG electrical harness against the structure of the pyramid arm. We issued that AD to prevent electrical arcing within the engine pylon, which could result in loss of the relevant alternating current (AC) bus bar, reduced structural integrity of the engine pylon, and possible loss of control of the airplane.

Actions Since Existing AD Was Issued

The preamble to AD 2004-09-01 explains that we considered the requirements “interim action” and were considering further rulemaking. We have now determined that further rulemaking is necessary, and this proposed AD follows from that determination. Since we issued AD 2004-09-01, the European Aviation Safety Agency (EASA), which is the airworthiness authority for the European Union, has advised us that a repetitive inspection program is necessary to ensure the functionality of the AC bus bar and the structural integrity of the pylon.

Relevant Service Information

Airbus has issued the service bulletins identified in the following table.

Service Bulletins
Actions | Airbus Service Bulletin | Affected model
Inspection (repetitive inspections of the IDG electrical harness and pylon forward pyramid arms), and protection of the harness | A300-24-6097, dated March 3, 2006, including Appendix 01 | A300-600 series airplanes.
| A310-24-2100, dated March 3, 2006, including Appendix 01 | A310 series airplanes.
Modification (replacement of the bracket feeder on the pylons) | A300-54-6038, dated May 12, 2006 | A300-600 series airplanes.
| A310-54-2039, dated May 12, 2006 | A310 series airplanes.

Service Bulletins A300-24-6097 and A310-24-2100 describe procedures for:

• Doing a detailed visual inspection for wear on the pyramid arms;

• Repairing wear that is within certain limits;

• Contacting Airbus for repair instructions if the wear exceeds those limits;

• Doing a detailed visual inspection of the cables;

• Repairing damaged cables;

• Protecting the harness, including installing adhesive tape, lacing tape, and adhesive sealant; and

• Reporting inspection results to Airbus.

The modification described in Service Bulletins A300-54-6038 and A310-54-2039 eliminates the need for the repetitive inspections specified above.

Accomplishing the actions specified in Service Bulletins A300-24-6097 and A310-24-2100 is intended to adequately address the unsafe condition. The EASA mandated that service information and issued airworthiness directive 2006-0155, dated June 1, 2006, to ensure the continued airworthiness of these airplanes in the European Union. EASA airworthiness directive 2006-0155 superseded French airworthiness directive F-2004-039 (referenced in FAA AD 2004-09-01). The EASA provided for the bracket feeder replacement as optional terminating action to the repetitive inspections.

FAA's Determination and Requirements of the Proposed AD

These airplane models are manufactured in France and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that we need to issue an AD for airplanes of this type design that are certificated for operation in the United States.

This proposed AD would:

• Supersede AD 2004-09-01;

• Retain the requirements of AD 2004-09-01;

• Require new repetitive inspections for damage of the IDG electrical harness and pylon forward pyramid arms, which, when initiated, would terminate the inspection required by AD 2004-09-01;

• Require repairing damage and protecting the harness;

• Provide for optional terminating action for the repetitive inspections;

• Remove certain airplanes (including certain Model A300-600 and Model A310 series airplanes and those modified in production) from the applicability of AD 2004-09-01; and

• Require sending the inspection results to Airbus for each repetitive inspection.

Differences Between Proposed AD and Service Information/EASA Airworthiness Directive

The applicability of EASA airworthiness directive 2006-0155 excludes airplanes on which the actions specified in Airbus Service Bulletin A300-54-6038 or A310-54-2039 have been done in service. However, we have not excluded those airplanes in the applicability of this proposed AD; rather, this proposed AD would provide for that modification as an option to the required repetitive inspections. Including these actions would ensure that the repetitive inspections would continue on all affected airplanes until accomplishment of the modification would allow the inspections to be terminated. Operators must continue to operate the airplane in the configuration required by this proposed AD unless an alternative method of compliance is approved.

Service Bulletins A300-24-6097 and A310-24-2100 specify to contact the manufacturer for instructions on how to repair certain conditions, but paragraph (k) of this proposed AD would require repairing those conditions using a method approved by the FAA or the EASA (or its delegated agent). In light of the type of repair that would be required to address the unsafe condition, and consistent with existing bilateral airworthiness agreements, we have determined that, for this proposed AD, a repair approved by either the FAA or the EASA would be acceptable for compliance with paragraph (k) of this proposed AD.

Clarification of Inspection Terminology

The “detailed visual inspection” specified in Service Bulletins A300-24-6097 and A310-24-2100 is referred to as a “detailed inspection” in this proposed AD. Note 1 in this proposed AD identifies a detailed inspection.

Explanation of Changes Made to Requirements of Existing AD

We have revised this action to clarify the appropriate procedure for notifying the principal inspector before using any approved alternative method of compliance (AMOC) on any airplane to which the AMOC applies.

Paragraph (e) of the existing AD specifies repairing certain discrepancies using a method approved by either the FAA or the Direction Générale de l'Aviation Civile (DGAC) (or its delegated agent). The EASA has assumed responsibility for the airplane models that would be subject to this AD. Therefore, we have revised corresponding paragraph (i) in this proposed AD to specify the repair of those discrepancies before the effective date of the new AD using a method approved by the FAA, the DGAC (or its delegated agent), or the EASA (or its delegated agent). After the effective date, paragraph (i) of this proposed AD specifies the repair using a method approved by the FAA or the EASA (or its delegated agent).

Costs of Compliance

The following table provides the estimated costs for U.S. operators to comply with this proposed AD.

Estimated Costs
Action | Work hours | Average labor rate per hour | Cost of parts | Cost per airplane | Number of U.S.-registered airplanes | Fleet cost
One-time inspection (from AD 2004-09-01) | 2 | $80 | $0 | $160 | 100 | $16,000.
Repetitive inspections and harness protection (new proposed requirement) | 4 | 80 | 0 | $320, per inspection cycle | 100 | $32,000, per inspection cycle.
New optional modification | 8 | 80 | 2,460 | $3,100 | Up to 100 | Up to $310,000.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13590 (69 FR 23090, April 28, 2004) and adding the following new airworthiness directive (AD):

Airbus: Docket No. FAA-2007-27012; Directorate Identifier 2006-NM-188-AD.

Comments Due Date

(a) The FAA must receive comments on this AD action by February 26, 2007.

Affected ADs

(b) This AD supersedes AD 2004-09-01.

Applicability

(c) This AD applies to Airbus Model A300 B4-601, A300 B4-603, A300 B4-605R, A300 C4-605R Variant F, A310-204, A310-304, and A310-308 airplanes; certificated in any category; equipped with General Electric CF6-80C2 engines without full-authority digital electronic control (FADEC); excluding airplanes on which Airbus Modification 13184 was done in production.

Unsafe Condition

(d) This AD results from a report of structural damage on the forward pyramid arm of an engine pylon due to chafing of the integrated drive generator (IDG) electrical harness against the structure of the pyramid arm. We are issuing this AD to prevent electrical arcing in the engine pylon, which could result in loss of the relevant alternating current (AC) bus bar, reduced structural integrity of the engine pylon, and possible loss of control of the airplane.

Compliance

(e) You are responsible for having the actions required by this AD performed within the compliance times specified, unless the actions have already been done.

Restatement of Certain Requirements of AD 2004-09-01

All Operators Telex Reference

(f) The term “All Operators Telex,” or “AOT,” as used in paragraphs (g), (h), and (j) of this AD, means the following AOTs, as applicable:

(1) For Model A300 B4-601, A300 B4-603, A300 B4-605R, and A300 C4-605R Variant F airplanes: Airbus AOT A300-54A6037, dated February 19, 2004; and

(2) For Model A310-204, A310-304, and -308 airplanes: Airbus AOT A310-54A2038, dated February 19, 2004.

Inspection

(g) At the applicable time in paragraph (g)(1) or (g)(2) of this AD, do a one-time detailed inspection for discrepancies of the IDG harness, harness bracket, retaining fasteners, and pyramid arm, in accordance with the applicable AOT.

(1) For airplanes on which Airbus Modification 07591 has not been incorporated as of May 13, 2004 (the effective date of AD 2004-09-01): Within 10 days after May 13, 2004.

(2) For airplanes on which Airbus Modification 07591 has been incorporated as of May 13, 2004: Within 600 flight hours after May 13, 2004.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Related Investigative and Corrective Actions for Damaged Electrical Harness

(h) If any discrepancy in the IDG electrical harness, fretting at the convoluted conduits, or contact between the IDG electrical harness and the pyramid arms is found during the inspection required by paragraph (g) of this AD: Before further flight, do the applicable related investigative actions and corrective actions in accordance with the applicable AOT.

Corrective Action for Damaged Electrical Harness Bracket, Retaining Fasteners, or Pyramid Arm

(i) If any discrepancy in the electrical harness bracket, retaining fasteners, or pyramid arm is found during the inspection required by paragraph (g) of this AD: Before further flight, repair in accordance with a method approved by the Manager, International Branch, ANM-116, Transport Airplane Directorate, FAA; the Direction Générale de l'Aviation Civile (DGAC) (or its delegated agent); or the European Aviation Safety Agency (EASA) (or its delegated agent). After the effective date of this AD, repair in accordance with a method approved by the FAA or the EASA.

No Reporting Requirement for Paragraph (g) of This AD

(j) Although the referenced AOTs describe procedures for submitting certain information to the manufacturer, no report is required for the inspection required by paragraph (g) of this AD.

New Requirements of This AD

Repetitive Inspections

(k) Within 6 months after the effective date of this AD, and thereafter at intervals not to exceed 12 months: Do a detailed inspection for damage of the IDG harness and the pylon pyramid arms, and protect the harness. Do the actions in accordance with Airbus Service Bulletin A300-24-6097, dated March 3, 2006 (for Model A300 B4-601, A300 B4-603, A300 B4-605R, and A300 C4-605R Variant F airplanes); or A310-24-2100, dated March 3, 2006 (for Model A310-204, A310-304, and A310-308 airplanes). The initial inspection terminates the requirements of paragraph (g) of this AD. If any discrepancy is found: Before further flight, repair in accordance with the applicable service bulletin; except, where the service bulletin specifies to contact the manufacturer for repair instructions, this AD requires repair using a method approved by either the Manager, International Branch, ANM-116; or the EASA (or its delegated agent).

Report

(l) At the applicable times specified in paragraphs (l)(1) and (l)(2) of this AD, submit a report of the findings (both positive and negative) of each inspection required by paragraph (k) of this AD. Send the report to Airbus Customer Services Directorate, Department AI/SE-E43, 1 Rond Point Maurice Bellonte, 31707 Blagnac, Cedex, France. The report must include the information specified in Appendix 01 of Airbus Service Bulletin A300-24-6097 or A310-24-2100, both dated March 3, 2006, as applicable. Under the provisions of the Paperwork Reduction Act (44 U.S.C. 3501 et seq.), the Office of Management and Budget (OMB) has approved the information collection requirements contained in this AD and has assigned OMB Control Number 2120-0056.

(1) For each inspection done after the effective date of this AD: Send the report within 30 days after the inspection.

(2) If an inspection was done before the effective date of this AD: Send the report within 30 days after the effective date of this AD.

Optional Terminating Action

(m) Replacement of the bracket feeder on the pylons terminates the requirements of this AD if the bracket feeder is replaced in accordance with Airbus Service Bulletin A300-54-6038, dated May 12, 2006 (for Model A300 B4-601, A300 B4-603, A300 B4-605R, and A300 C4-605R Variant F airplanes); or A310-54-2039, dated May 12, 2006 (for Model A310-204, A310-304, and A310-308 airplanes); as applicable.

Alternative Methods of Compliance (AMOCs)

(n)(1) The Manager, International Branch, ANM-116, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(o) EASA airworthiness directive 2006-0155, dated June 1, 2006, also addresses the subject of this AD.

Issued in Renton, Washington, on December 26, 2006.
Ali Bahrami,
Manager, Transport Airplane Directorate, Aircraft Certification Service.

[FR Doc. E7-1207 Filed 1-25-07; 8:45 am]

BILLING CODE 4910-13-P